ENVIRONMENTAL PROTECTION AGENCY

[FRL-9263-7]

Science Advisory Board Staff Office; Notification of Two Public Teleconferences of the Science Advisory Board Dioxin Review Panel

AGENCY: Environmental Protection Agency (EPA).

ACTION: Notice.

SUMMARY: The EPA Science Advisory Board (SAB) Staff Office announces two public teleconferences of the SAB Dioxin Review Panel to discuss its draft advisory report concerning EPA's Reanalysis of Key Issues Related to Dioxin Toxicity and Response to NAS Comments, External Review Draft.

DATES: The SAB Dioxin Review Panel will conduct public teleconferences on March 1, 2011 and March 2, 2011. The teleconference on March 1, 2011 will begin at 1 p.m. and end at 4 p.m. (Eastern Time). The teleconference on March 2, 2011 will begin at 1 p.m. and end at 5 p.m. (Eastern Time).

ADDRESSES: The public teleconferences will be conducted by telephone only.

FOR FURTHER INFORMATION CONTACT: Any member of the public wishing to obtain general information concerning the public teleconferences may contact Dr. Thomas Armitage, Designated Federal Officer (DFO), EPA Science Advisory Board Staff Office (1400R), U.S. Environmental Protection Agency, 1200 Pennsylvania Avenue, NW., Washington, DC 20460; by telephone/voice mail at (202) 564-2155 or via e-mail at armitage.thomas@epa.gov. General information concerning the EPA Science Advisory Board can be found on the EPA Web site at http://www.epa.gov/sab.

SUPPLEMENTARY INFORMATION: The SAB was established pursuant to the Environmental Research, Development, and Demonstration Authorization Act (ERDAA), codified at 42 U.S.C. 4365 to provide independent scientific and technical advice to the Administrator on the technical basis for Agency positions and regulations. The SAB is a Federal Advisory Committee chartered under the Federal Advisory Committee Act (FACA), 5 U.S.C., App. 2. Pursuant to FACA and EPA policy, notice is hereby given that the SAB Dioxin Review Panel will hold two public teleconferences to discuss its draft advisory report concerning EPA's Reanalysis of Key Issues Related to Dioxin Toxicity and Response to NAS Comments, External Review Draft. The SAB will comply with the provisions of FACA and all appropriate SAB Staff Office procedural policies.

Background: The SAB Dioxin Review Panel previously held a teleconference on June 24, 2010 and face-to-face meetings on July 13-15, 2010 and October 27-29, 2010 to receive EPA briefings and conduct a peer review of EPA's Reanalysis of Key Issues Related to Dioxin Toxicity and Response to NAS Comments, External Review Draft (May 2010) [Federal Register Notices dated May 24, 2010 (75 FR 28805-28806) and September 22, 2010 (75 FR 57779-57780)]. Specifically, the Panel has been asked to evaluate the transparency and clarity in the selection of key data sets for dose-response analysis; the use of toxicokinetics in dose-response modeling for cancer and non-cancer endpoints; the derivation of the chronic reference dose; cancer assessment; and EPA's comments regarding the feasibility of the quantitative uncertainty analysis.

The purpose of the upcoming teleconferences is for the SAB Dioxin Review Panel to discuss its draft advisory report. Teleconference agendas and the draft SAB review report will be posted at the above noted SAB Web site prior to the teleconferences.

Availability of Meeting Materials: Agendas and materials in support of the teleconferences will be placed on the SAB Web site at http://www.epa.gov/sab in advance of the teleconferences. For technical questions and information concerning EPA's draft document, please contact Dr. Glenn Rice at (513) 569-7813 or rice.glenn@epa.gov.

Procedures for Providing Public Input: Public comment for consideration by EPA's federal advisory committees and panels has a different purpose from public comment provided to EPA program offices. Therefore, the process for submitting comments to a federal advisory committee is different from the process used to submit comments to an EPA program office.

Federal advisory committees and panels, including scientific advisory committees, provide independent advice to EPA. Members of the public can submit comments for a federal advisory committee to consider as it develops advice for EPA. They should send their comments directly to the Designated Federal Officer for the relevant advisory committee. Oral Statements: In general, individuals or groups requesting an oral presentation at a public teleconference will be limited to three minutes per speaker. Each person making an oral statement should consider providing written comments as well as their oral statement so that the points presented orally can be expanded upon in writing. Interested parties should contact Dr. Thomas Armitage, DFO, in writing (preferably via e-mail) at the contact information noted above by February 23, 2011 to be placed on the list of public speakers for March 1, 2011.

Written Statements: Written statements should be supplied to the DFO via e-mail at the contact information noted above by February 23, 2011 so that the information may be made available to the Panel members for their consideration. Written statements should be supplied in one of the following electronic formats: Adobe Acrobat PDF, MS Word, MS PowerPoint, or Rich Text files in IBM-PC/Windows 98/2000/XP format. Submitters are requested to provide versions of signed documents, submitted with and without signatures, because the SAB Staff Office does not publish documents with signatures on its Web sites.

Accessibility: For information on access or services for individuals with disabilities, please contact Dr. Thomas Armitage at (202) 564-2155 or armitage.thomas@epa.gov. To request accommodation of a disability, please contact Dr. Armitage preferably at least ten days prior to the teleconference to give EPA as much time as possible to process your request.

Dated: February 3, 2011.
Anthony Maciorowski,
Deputy Director, EPA Science Advisory Staff Office.

[FR Doc. 2011-2769 Filed 2-7-11; 8:45 am]

BILLING CODE 6560-50-P